DEPARTMENT OF ENERGY

Federal Energy Regulatory Commission

[Docket No. RP01-40-001]

Cove Point LNG Limited Partnership; Notice of Compliance Filing

November 28, 2000.

Take notice that on November 22, 2000, Cove Point LNG Limited Partnership (Cove Point) tendered for filing certain revised tariff sheet to its FERC Gas Tariff, Second Revised Volume No. 1, to comply with the Commission's Order issued on November 9, 2000 in Docket Nos. RM96-1-14 and RP01-40-000.

Cove Point states that the purpose of the instant filing is to comply with the Commission's November 9 Order in the referenced dockets to file a tariff sheet to implement imbalance netting and trading on the Cove Point system within 15 days of the order. Accordingly, Cove Point proposes new Section 15(h) of its General Terms and Conditions, Netting and Trading, which describes the imbalance netting and trading process on the Cove Point system. In general, each buyer's imbalances on the Cove Point system will automatically be netted across rate schedules and imbalance trading between parties will be allowed until the 17th business day following the end of the applicable month.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30737 Filed 12-1-00; 8:45 am]

BILLING CODE 6717-01-M